OFFICE OF THE UNITED STATES TRADE REPRESENTATIVE

Notice of Technical Amendments to Two Exclusions: China's Acts, Policies, and Practices Related to Technology Transfer, Intellectual Property, and Innovation

AGENCY: Office of the United States Trade Representative (USTR).

ACTION: Notice.

SUMMARY: This notice announces the U.S. Trade Representative's determination to make two technical amendments to certain previously reinstated exclusions associated with the section 301 investigation of China Acts, Policies, and Practices Related to Technology Transfer, Intellectual Property, and Innovation.

DATES: The technical amendments announced in the Annex to this notice apply as of October 12, 2021, and extend through December 31, 2022.

FOR FURTHER INFORMATION CONTACT: For general questions about this notice, contact Associate General Counsel Philip Butler, Assistant General Counsel Rachel Hasandras, or Assistant General Counsel David Salkeld at (202) 395-5725. For specific questions on customs classification or implementation of the product exclusions identified in the Annex to this notice, contact traderemedy@cbp.dhs.gov.

SUPPLEMENTARY INFORMATION: The Annex to this notice makes technical amendments to U.S. note subdivisions 20(ttt)(iii)(50) and (ttt)(iii)(51) to subchapter III of chapter 99 of the Harmonized Tariff Schedule of the United States (HTSUS), as set out in the Annex of the notice published at 87 FR 17380 (March 28, 2022), to correct the descriptions of the articles covered by the exclusions.

Like all exclusions under this Section 301 investigation, these technical amendments apply to entries of goods that are not liquidated or to entries that are liquidated, but not final.

Annex

1. Effective with respect to goods entered for consumption, or withdrawn from warehouse for consumption, on or after 12:01 a.m. eastern standard time on October 12, 2021, and through December 31, 2022, note 20(ttt)(iii)(50) to subchapter III of chapter 99 of the HTSUS is modified by deleting “each measuring not more than 98 cm by 52 cm by 17 cm,”.

2. Effective with respect to goods entered for consumption, or withdrawn from warehouse for consumption, on or after 12:01 a.m. eastern standard time on October 12, 2021, and through December 31, 2022, note 20(ttt)(iii)(51) to subchapter III of chapter 99 of the HTSUS is modified by deleting “each measuring not more than 81 cm by 39 cm by 11 cm,”.

Greta Peisch,
General Counsel, Office of the United States Trade Representative.

[FR Doc. 2022-22355 Filed 10-13-22; 8:45 am]

BILLING CODE 3390-F3-P